Proclamation 7298 of April 28, 2000

Law Day, U.S.A., 2000

By the President of the United States of America

A Proclamation

The freedom of America's citizens is sustained by American law. In crafting the Constitution and the Bill of Rights, our Nation's founders wisely understood that liberty and law are equally important to ensuring human rights and preserving human dignity. Law without freedom becomes tyranny; freedom without law becomes chaos.

The theme of this year's Law Day observance, “Speak up for Democracy and Diversity,” reminds us of the vital role that the law and America's legal community have played in protecting our freedoms and extending them to an ever-widening circle of Americans. Many signal victories for civil rights have been won in the courts by men and women of conscience whose commitment to the Constitution and the rule of law compelled them to speak out against bigotry and discrimination. Many Americans have found champions among the legal profession to defend their rights and to uphold our Nation's promise of equality and justice for all. From the War for Independence to the War Between the States, from emancipation in the 19th century to women's suffrage and the civil rights movement in the 20th century, courageous Americans have risen to the challenge of improving upon our laws and extending their protections to all of our citizens.

Today, thanks in large measure to the efforts of our Nation's legal community, people of all backgrounds, races, and religions are working, living, and learning side by side. The doors of opportunity are open wider than ever. But despite the advances we have made, we still see in our society stubborn obstacles to true freedom and justice—obstacles such as poverty, unemployment, and lingering discrimination. That is why I have called America's legal community to action once again to lead the fight for equal justice under law. Whether promoting racial diversity in our judicial system and the legal profession, using their knowledge of the law to help underserved communities increase homeownership and entrepreneurship, or providing skilled representation to low-income Americans to ensure the protection of their rights, our Nation's lawyers can make important and lasting differences in preserving justice and promoting freedom and equality.

I encourage all Americans to observe Law Day by reflecting on the impact that our Nation's laws have had upon the quality of our lives and the strength of our democracy. From the promise of a more perfect union prescribed in the Preamble to the Constitution to the daily rulings of our modern-day justice system, our Nation's system of laws has made real our founders' vision and sustained their fundamental values. As we continue to work for a more just society for all, let us celebrate our legal heritage and reaffirm our reverence for the rule of law, which has safeguarded our liberty and preserved our democracy for more than 200 years.

NOW, THEREFORE, I, WILLIAM J. CLINTON, President of the United States of America, in accordance with Public Law 87-20 of April 7, 1961, do hereby proclaim May 1, 2000, as Law Day, U.S.A. I urge the people of the United States to consider anew how our laws protect our freedoms and contribute to our national well-being. I call upon members of the legal profession, civic associations, educators, librarians, public officials, and the media to promote the observance of this day with appropriate programs and activities. I also call upon public officials to display the flag of the United States on all government buildings throughout the day.

IN WITNESS WHEREOF, I have hereunto set my hand this twenty-eighth day of April, in the year of our Lord two thousand, and of the Independence of the United States of America the two hundred and twenty-fourth.

wj

[FR Doc. 00-11140

Filed 5-2-00; 8:45 am]

Billing code 3195-01-P